DEPARTMENT OF THE INTERIOR

Bureau of Land Management

[CA-067-1990; CA-40204]

Notice of Availability of the Draft Environmental Impact Report/Environmental Impact Statement on the Proposed Expansion of the Existing Mesquite Gold Mine

AGENCY: Bureau of Land Management, Interior.

ACTION: Notice of availability.

SUMMARY: Newmont Gold Company, operator of the Mesquite gold mine located in Imperial County, California, has proposed to expand mining operations by a plan modification submitted to the Bureau of Land Management (BLM), El Centro Field Office, on November 30, 1998. Pursuant to section 102(2)(c) of the National Environmental Policy Act of 1969 (42 U.S.C. 4321-4347), and the California Environmental Quality Act (Public Resources Code, section 21000, et seq.), the BLM and the Imperial County Planning and Building Department, as lead agencies, have prepared, through a third-party contractor, a Draft Environmental Impact Report (EIR)/Environmental Impact Statement (EIS) on the impacts of the Mesquite Mine expansion which would extend the mine life through the year 2006. The Draft EIR/EIS presents a preferred alternative derived from seven alternatives, including the companies proposed action. The preferred alternative is the agencies' attempt to reduce or avoid the potential environmental impacts of the Proposed Action. The Draft EIR/EIS discloses the possible environmental consequences associated with each alternative.

DATES: A Final EIR/EIS will be prepared following a 60 day comment period on the Draft EIR/EIS. This comment period will end on October 30, 2000. The Final EIR/EIS will be published approximately 30 days following the Draft EIR/EIS comment period.

ADDRESSES: Copies of the Draft EIR/EIS will be available from the Imperial County Planning and Building Department, 939 Main Street, El Centro, CA 92243; telephone (760) 482-4236, extension 4310.

Public reading copies will be available for review at the following locations: (1) Bureau of Land Management, California State Office, 2800 Cottage Way, Sacramento, CA; (2) Bureau of Land Management, El Centro Field Office, 1661 South Main Street, El Centro, CA; (3) Imperial County Planning and Building Department, 939 Main Street, El Centro, CA; (4) local libraries in San Diego County, California, and Imperial County, California; and in the town of Yuma, Arizona. Text of the Draft EIR/EIS will be posted at the Bureau of Land Management Web site: //www.ca.blm.gov/elcentro/mesquite/

FOR FURTHER INFORMATION CONTACT: Jurg Heuberger, Imperial County Planning and Building Department, 939 Main Street, El Centro, CA; telephone (760) 482-4236 extension 4310; or Kevin Marty, Bureau of Land Management, 1661 South 4th Street, El Centro, CA; telephone (760) 337-4422.

SUPPLEMENTARY INFORMATION: The Mesquite Mine began operations under an approved plan of operations during 1985. Since this time, plan modifications and expansions have occurred, which are summarized within the approved Mesquite Mine consolidated plan of operations dated October, 1995. On November 30, 1998, Newmont Gold Company, operator of the Mesquite Mine, submitted a plan of operations for an expansion of the mine. The existing mine site encompasses 5,200 acres, of which 3,655 acres have been disturbed by mining activities to date. The total area proposed for disturbance under the expansion is 693 acres, of which 190 acres would be new, unpermitted disturbance.

The expansion would allow the company to continue extracting and processing economical gold deposits, delineated by drilling programs initiated during 1988 and continuing to date. Current ore reserves would be depleted by the end of year 2000, while expansion would increase the mine life a projected seven years into year 2006. The plan modification proposes to process approximately 89 million tons of ore and 242 million tons of waste rock. The Big Chief and Rainbow pit expansions would encompass approximately 350 acres of Federal, State and private (patented) land, of which 76 acres would be new, unpermitted land disturbance. The plan modification also describes alternative methods for storage of waste rock, either in existing mined-out open pits, at new or expanded out-of-pit storage areas, or a combination of both; and construction of ancillary facilities including roads, fencing and drainage diversions.

Dated: August 23, 2000.
Greg Thomsen,
Field Manager.

[FR Doc. 00-21988 Filed 8-28-00; 8:45 am]

BILLING CODE 4310-40-P